FEDERAL COMMUNICATIONS COMMISSION

47 CFR Part 73

[MB Docket No. 23-296; RM-11964; DA 23-1030; FR ID 183180]

Television Broadcasting Services Des Moines, Iowa

AGENCY: Federal Communications Commission.

ACTION: Final rule.

SUMMARY: The Video Division, Media Bureau (Bureau) has before it a notice of proposed rulemaking issued in response to a petition for rulemaking filed by Iowa Public Broadcasting Board (Petitioner), the licensee of noncommercial educational television PBS member station KDIN-TV (KDIN-TV or Station), channel *11, Des Moines, Iowa. The Petitioner has requested the substitution of channel *34 in place of channel *11 at Des Moines in the Table of TV Allotments, and requested that we delete vacant channel *34, Ames, Iowa (Ames) and substitute it with the allotment of vacant channel *21 to Ames. Petitioner filed comments in support of the petition, as required by the Commission's rules (rules), reaffirming its commitment to apply for channel *34.

DATES: Effective November 8, 2023.

FOR FURTHER INFORMATION CONTACT: Emily Harrison, Media Bureau, at (202) 418-1665 or Emily.Harrison@fcc.gov.

SUPPLEMENTARY INFORMATION: The proposed rule was published at 88 FR 60611 on September 5, 2023. The Petitioner filed comments in support of the petition reaffirming its commitment to apply for channel *34. No other comments were received.

The Bureau believes the public interest would be served by substituting channel *34 for channel *11 at Des Moines. Petitioner asserts that the channel substitution from a VHF to UHF channel would serve the public interest by resolving viewer reception challenges and significantly improving the Station's over-the-air service to the viewers in its existing service area. Petitioner includes with its Petition a number of viewer complaints highlighting current reception problems. Petitioner states that the Commission has recognized that VHF channels pose challenges for their use in providing digital television service, including propagation characteristics that allow undesired signals and noise to be receivable at relatively far distances and large variability in the performance of indoor antennas available to viewers, with most antennas performing very poorly on high VHF channels. An engineering statement provided by the Petitioner confirms that the proposed channel *34 contour would provide full principal community coverage to Des Moines. The proposed move from channel *11 to channel *34 is also predicted not to create a loss of service to any viewers, and will increase the area covered while serving the population with higher signal levels, according to the engineering statement. Petitioner acknowledges that the proposed channel substitution would not meet the distance separation requirements regarding the vacant channel *34 allotment at Ames. As a result, Petitioner requests that simultaneously with the substitution of channel *34 at Des Moines, we delete the vacant channel *34 allotment at Ames and substitute it with the allotment of vacant channel *21 to Ames. As stated in its supplemental engineering statement, the proposed channel *21 is described as meeting the distance criteria found in § 73.623(d) of the rules, and an analysis using the Commission's TVStudy software is provided showing no interference to any other station or allotment.

This is a synopsis of the Commission's Report and Order, MB Docket No. 23-296; RM-11964; DA 23-1030, adopted November 1, 2023, and released November 1, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of TV Allotments, under “Iowa,” by revising the entries for “Ames” and “Des Moines” to read as follows:

§ 73.622 Digital television table of allotments.

* * * * *

(j) * * *

Community | Channel No.
* * * * *
Iowa
Ames | 5, *21, 23
* * * * *
Des Moines | 8, 13, 16, 19, *34
* * * * *

[FR Doc. 2023-24652 Filed 11-7-23; 8:45 am]

BILLING CODE 6712-01-P